DEPARTMENT OF HEALTH AND HUMAN SERVICES

Health Resources and Services Administration

Ryan White HIV/AIDS Program Part D—Coordinated HIV Services and Access to Research for Women, Infants, Children, and Youth

AGENCY: Health Resources and Services Administration, HHS.

ACTION: Notice of non-competitive replacement award.

SUMMARY: The Health Resources and Services Administration (HRSA) is issuing a non-competitive replacement award from the previous grantee, Orlando Health, Incorporated's HUG-ME Program, to the Orange County Health Department, Orlando, Florida, that will ensure continuity of Part D HIV/AIDS care and treatment services without disruption to HIV/AIDS-infected women, infants and children in Orange County and the surrounding areas.

SUPPLEMENTARY INFORMATION: Intended Recipient of the Award: Orange County Health Department, Orlando, Florida.

Amount of the Award: $750,576.00

Period of Support: The period of the supplemental support is from October 1, 2009 through July 31, 2010.

Authority: This activity is under the authority of the Public Health Service Act as amended, Section 2671, (42 USC 300ff-71). The authority for the exception to competition is HHS Grants Policy Directive 2.04, Awarding Grants.

Catalogue of Federal Domestic Assistance Number: 93.153.

Justification for the Exception to Competition: Critical funding for HIV/AIDS care and treatment to the target populations in Orange County, Orlando, Florida, and surrounding areas will be continued through a temporary, non-competitive replacement award to the Orange County Health Department. This temporary award is needed because the former grantee, Orlando Health, Incorporated, has relinquished, effective September 30, 2009, the HUG-ME Program and the HRSA Grant Award supporting it (original Project Period August 1, 2008, through July 31, 2013). The Orange County Health Department is known Statewide as an exceptional site for HIV/AIDS care and treatment services, and has administered its own HRSA Ryan White HIV/AIDS Program Part D—Coordinated HIV Services and Access to Research for Women, Infants, Children, and Youth Grant for the past 9 years. It is well suited to undertake operations of the HUG-ME Program under the previously approved scope of project activities. Additionally, this organization has a thorough understanding of the characteristics and needs of HIV/AIDS-infected populations. The HIV/AIDS Bureau and its Division of Community Based Programs are not aware of any other organization that could provide good quality care and treatment services to the impacted service populations without additional time and resources being devoted to bringing that organization's service capacity up to the level needed under the project scope of this award. This non-competitive replacement award will permit the Orange County Health Department to ensure continuity of services to the affected populations. The supplemental funding will provide support for 10 months. Additional funding beyond July 31, 2010, will be provided through a limited service area competition that will be announced in the future.

FOR FURTHER INFORMATION CONTACT: Deborah Parham-Hopson, Associate Administrator, HRSA/HAB, 5600 Fishers Lane, Rockville, Maryland, 20857; phone 301 443-1993; DParham@hrsa.gov.

Dated: January 13, 2010.
Mary K. Wakefield,
Administrator.

[FR Doc. 2010-1655 Filed 1-26-10; 8:45 am]

BILLING CODE 4165-15-P